DEPARTMENT OF TRANSPORTATION

Surface Transportation Board

Notice and Request for Comments

ACTION: Notice and request for comments.

SUMMARY: The Surface Transportation Board (Board), as part of its continuing effort to reduce paperwork burdens, and as required by the Paperwork Reduction Act of 1995, 44 U.S.C. 3501 et seq. (PRA), gives notice that the Board will seek from the Office of Management and Budget (OMB) an extension of approval for the currently approved collection of rail system diagram maps. The Board is seeking comments from rail carriers that have recently filed amended or new system diagram maps (or, in the case of small carriers, the alternative narrative description of rail system) concerning (1) whether the particular collection of information is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology when appropriate. Submitted comments will be summarized and included in the Board's request for OMB approval.

Description of Collection

Title: System Diagram Maps.

OMB Control Number: 2140-0003.

Form Number: None.

Type of Review: Extension without change.

Respondents: Common carrier freight railroads that are either new or reporting changes in the status of one or more of their rail lines.

Number of Respondents: 4.

Estimated Time per Response: 4.5 hours, based on average time reported in informal survey of respondents conducted in 2003.

Frequency of Response: 1.

Total Annual Burden Hours: 18 hours.

Total Annual “Non-Hour Burden” Cost: None have been identified.

Needs and Uses: Under 49 CFR 1152.10-1152.13, all railroads subject to the Board's jurisdiction are required to keep current system diagram maps on file, or alternatively in the case of a Class III carrier (a carrier with assets of not more than $20 million in 1991 dollars), to submit the same information in narrative form. The information sought in this collection identifies all lines in a particular railroad's system, categorized to indicate the likelihood that service on a particular line will be abandoned and/or whether service on a line is currently provided under the financial assistance provisions of 49 U.S.C. 10904. Carriers are obligated to amend these maps as the need to change the category of any particular line arises. The Board uses this information to facilitate informed decision making, and this information, which is available to the public from the carrier by request, 49 CFR 1152.12(c)(3), may serve as notice to the shipping public of the carrier's intent to abandon or retain a line.

DATES: Persons wishing to comment on this information collection should submit comments by September 19, 2006.

ADDRESSES: Direct all comments to Marilyn Levitt, Surface Transportation Board, Room 614, 1925 K Street, NW., Washington, DC 20423 or levittm@stb.dot.gov or by fax at (202) 565-9001. When submitting comments, refer to the OMB number and title of the information collection.

FOR FURTHER INFORMATION CONTACT: Barbara G. Saddler, (202) 565-1656. Requests for a copy of the regulations pertaining to this information collection may be obtained by contacting Barbara G. Saddler at (202) 565-1656 or saddlerb@stb.dot.gov.

SUPPLEMENTARY INFORMATION: Under the PRA, a Federal agency conducting or sponsoring a collection of information must display a currently valid OMB control number. Collection of information, which is defined in 44 U.S.C. 3502(3) and 5 CFR 1320.3(c), includes agency requirements that persons submit reports, keep records, or provide information to the agency, third parties, or the public. Under section 3506(c)(2)(A) of the PRA, Federal agencies are required to provide a 60-day notice and comment period through publication in the Federal Register concerning each proposed collection of information, including each proposed extension of an existing collection of information, before submitting the collection to OMB for approval.

Dated: July 21, 2006.
Vernon A. Williams,
Secretary.

[FR Doc. E6-11592 Filed 7-20-06; 8:45 am]

BILLING CODE 4915-01-P